DEPARTMENT OF TRANSPORTATION

Federal Highway Administration Revised Notice of Intent To Prepare a Tier 1 Environmental Impact Statement: Juneau, Sauk, and Columbia Counties, Wisconsin

AGENCY: Federal Highway Administration (FHWA), Wisconsin Department of Transportation (WisDOT).

ACTION: Federal Notice of Intent to Prepare an Environmental Impact Statement (EIS).

SUMMARY: The purpose of this NOI is to update the notice that was issued in the Federal Register Vol. 79 No. 221, Monday, November 17, 2014, Notices. The FHWA is issuing this revised notice to advise the public that FHWA and WisDOT will be preparing a Tier 1 Environmental Impact Statement (EIS) for proposed transportation improvements along the Interstate (I)-90/94 corridor, from United States Highway (US) 12/Wisconsin State Highway (WIS) 16 Interchange to the I-39/WIS 78 interchange in Juneau, Sauk, and Columbia Counties in Wisconsin.

FOR FURTHER INFORMATION CONTACT: Johnny Gerbitz, Field Operations Engineer, Federal Highway Administration, 525 Junction Road, Suite 8000, Madison, Wisconsin, 53717-2157, Telephone: (608) 829-7511. You may also contact Steve Krebs, Director, Bureau of Technical Services, Wisconsin Department of Transportation, P.O. Box 7965, Madison, Wisconsin, 53707-7965, Telephone: (608) 246-7930.

SUPPLEMENTARY INFORMATION:

Background

The FHWA, in cooperation with the Wisconsin Department of Transportation (WisDOT), will prepare a Tier 1 Environmental Impact Statement (EIS) for proposed improvements in the I-90/94 corridor and adjacent local road systems from the US 12/WIS 16 interchange (2 miles north of Wisconsin Dells) to the I-39/WIS 78 interchange (south of Portage), approximately 25 miles. The project limits include operational areas of influence at each interchange. The preliminary purpose of this project is to address pavement and bridge structural needs; highway and roadside safety issues and design deficiencies; accommodate existing and projected traffic volumes; and improve the transportation system's ability to support local and regional tourism economies.

FHWA's decision to prepare an EIS is based on the initial review that indicates the proposed action is likely to have significant impacts on the environment, including wetlands. The study began preparing a traditional Draft EIS for the corridor, but due to project complexity and funding limitations, FHWA and WisDOT have decided to prepare a Tiered EIS. The Tiered EIS approach will allow FHWA and WisDOT to bring forward portions of the project as needs dictate and as funding becomes available.

The Tier 1 EIS document will analyze the project on a broad scale and identify a preferred corridor location for potential future improvements. The Tier 1 EIS will evaluate the social, economic, and environmental impacts for a range of alternatives within the existing I-90/94 corridor and improvements along other corridors. The Tier 1 EIS will be prepared in accordance with 23 U.S.C. 139, 23 CFR771, and 40 CFR parts 1500-1508. Completion of the Tier 1 EIS and the Record of Decision (ROD) is expected in 2018.

Subsequent Tier 2 environmental documents will be prepared with a greater degree of engineering detail for specific improvements in the remainder of the corridor. The alternative analysis in the Tier 2 documents will include, but is not limited to, the alternatives that have been developed as part of the previous EIS study.

Public involvement is a critical component of the National Environmental Policy Act (NEPA) and will occur throughout the development of the draft and final Tier 1 EIS. All environmental documents will be made available for review by federal and state resource agencies and the public. Specific efforts to encourage involvement by, and solicit comments from, minority and low-income populations in the project study area will be made, with public involvement meetings held throughout the environmental document process. Public notice will be given as to the time and place of public involvement meetings. A public hearing will be held after the completion of the Draft Tier 1 EIS.

Inquiries related to this study can be sent to mark.westerveld@dot.wi.gov. A public Web site will be maintained throughout the study to provide information about the project (http://www.dot.wisconsin.gov/projects/swregion/9094/index.htm). To ensure the full range of issues related to the proposed action are addressed and all significant issues identified, comments and suggestions are invited from all interested parties. Comments and questions concerning the proposed action and the EIS should be directed to the FHWA address provided above.

Projects receiving Federal funds must comply with Title VI of the Civil Rights Act, and Executive Order 12898 “Federal Actions to Address Environmental Justice in Minority Populations and Low-Income Populations.” Federal law prohibits discrimination on the basis of race, color, age, sex, or country of national origin in the implementation of this project. It is also Federal policy to identify and address any disproportionately high and adverse effects of federal projects on the health or environment of minority and low-income populations to the greatest extent practicable and permitted by law.

(Catalog of Federal Domestic Assistance Program Number 20.205, Highway Planning and Construction. The regulations implementing Executive Order 12372 regarding intergovernmental consultation on Federal programs and activities apply to this program.)

Dated: November 23, 2015.
Johnny M. Gerbitz,
Field Operations Engineer, Federal Highway Administration, Madison, Wisconsin.

[FR Doc. 2015-30277 Filed 11-27-15; 8:45 am]

BILLING CODE 4910-22-P